DEPARTMENT OF LABOR

Employment and Training Administration

[TA-W-50,405]

Dorr-Oliver Eimco USA, Inc. Formerly Known as Eimco Processing Company, Salt Lake City, UT; Amended Certification Regarding Eligibility To Apply for Worker Adjustment Assistance

In accordance with Section 223 of the Trade Act of 1974 (19 U.S.C. 2273) the Department of Labor issued Amended Certification Regarding Eligibility to Apply for Worker Adjustment Assistance on January 13, 2003, applicable to workers of the Dorr-Oliver Eimco USA, Inc., Salt Lake City, Utah. The notice was published in the Federal Register on February 6, 2003 (68 FR 6212).

At the request of the State agency, the Department reviewed the certification for workers of the subject firm. The workers were engaged in the production of liquid/solid separation equipment.

New information shows that Dorr-Oliver Eimco USA, Inc., formerly known as Eimco Process Equipment Company, was formed following a merger in November 2002 between GL&V/Dorr-Oliver and Eimco Process Equipment Company, a Division of Baker Hughes, Incorporated.

Accordingly, the Department is amending this certification to properly reflect this matter.

The intent of the Department's certification is to include all workers of Dorr-Oliver Eimco USA, Inc. who were adversely affected by a shift in production to Mexico, Canada and India.

The amended notice applicable to TA-W-50,405 is hereby issued as follows:

“All workers of Dorr-Oliver Eimco USA, Inc., formerly known as Eimco Process Equipment Company, Salt Lake City, Utah, who became totally or partially separated from employment on or after December 20, 2001, through January 13, 2005, are eligible to apply for adjustment assistance under Section 223 of the Trade Act of 1974.”

Signed at Washington, DC this 25th day of August 2003.
Elliott S. Kushner,
Certifying Officer, Division of Trade Adjustment Assistance.

[FR Doc. 03-23001 Filed 9-9-03; 8:45 am]

BILLING CODE 4510-30-P